DEPARTMENT OF COMMERCE

International Trade Administration

[A-201-817]

Oil Country Tubular Goods from Mexico: Notice of NAFTA Bi-National Panel's Final Decision, Amended Final Results of Full Sunset Review and Revocation of Antidumping Duty Order

AGENCY: Import Administration, International Trade Administration, Department of Commerce.

SUMMARY: On September 5, 2007, the North American Free Trade Agreement (“NAFTA”) Secretariat published in the Federal Register a notice of completion of panel review of the final remand redetermination made by the U.S. Department of Commerce (the Department) concerning the full sunset review of the antidumping duty order on oil country tubular goods (OCTG) from Mexico. See North American Free-Trade Agreement, Article 1904 NAFTA Panel Reviews; Completion of Panel Review, 72 FR 50934 (September 5, 2007). As there is now a final and conclusive decision in this case, we are amending the final results of the full sunset review and revoking the antidumping duty order on OCTG from Mexico.

EFFECTIVE DATE: October 1, 2007.

FOR FURTHER INFORMATION CONTACT: John Drury or Angelica Mendoza, AD/CVD Operations, Office 7, Import Administration, International Trade Administration, U.S. Department of Commerce, 14th Street and Constitution Ave., NW, Washington, DC 20230; telephone: (202) 482-0195 or (202) 482-3019, respectively.

SUPPLEMENTARY INFORMATION: This case arises out of the Department's determination in the final results of the first sunset review covering entries for the five years following the publication date of the antidumping duty order, August 11, 1995. See Oil Country Tubular Goods (“OCTG”) from Mexico: Final Results of Sunset Review of Antidumping Order, 66 FR 14131 (March 9, 2001) and accompanying Issues and Decision Memorandum (“Final Results”). In the Final Results, the Department determined that revocation of the antidumping duty order would likely lead to the continuation or recurrence of dumping.

Subsequent to the completion of the sunset review, Tubos de Aceros de Mexico, S.A. (“TAMSA”) challenged the Department's findings pursuant to article 1904 of the NAFTA and requested that a Bi-National Panel review the final determination. From 2005 to 2007, the Panel issued multiple decisions remanding various aspects of the Department's decision to the agency. See NAFTA Panel decisions of February 11, 2005, February 8, 2006, July 28, 2006, January 17, 2007, and June 1, 2007.

On June 11, 2007, consistent with the Panel's order of June 1, 2007, the Department issued a remand redetermination where the Department “made a determination to the effect that the evidence on the record does not support a finding or likelihood of recurrence or continuation of dumping upon revocation of the antidumping duty order.” See Fifth Redetermination on Remand, Oil Country Tubular Goods from Mexico: Sunset Review, (June 11, 2007) at page 2.

On July 19, 2007, the Panel affirmed the Department's fifth remand redetermination. See NAFTA Final Decision. The Panel issued its Notice of Final Panel Action on July 30, 2007.

Pursuant to Section 516A(g)(5)(B) of the Tariff Act of 1930, as amended (the Act), and consistent with the decision of the United States Court of Appeals for the Federal Circuit in Timken Co. v. United States, 893 F.2d 337 (Fed. Cir. 1990) (“Timken”) regarding publication requirements, the Department published its notice of the NAFTA Panel decision that was not “in harmony” with the Department's determination from the Final Results. See Oil Country Tubular Goods from Mexico: Notice of NAFTA Panel Decision Not in Harmony with Final Results of Sunset Administrative Review, 72 FR 49702 (August 29, 2007), with an effective date of August 9, 2007. The Department continued the suspension of liquidation of the subject merchandise pending the expiration of the period for requesting an Extraordinary Challenge Committee (“ECC”). We note that the period to request an ECC has expired and no ECC request has been filed.

On September 5, 2007, the NAFTA Secretariat published in the Federal Register its Notice of Completion of Panel Review. Therefore, because there is a final Panel decision in this case, the Department is amending the final sunset review and revoking the antidumping duty order on OCTG from Mexico.

Termination of Suspension of Liquidation

The Department is revoking the antidumping duty order on OCTG from Mexico, pursuant to section 751(d) of the Act. Pursuant to sections 751(d)(2) and 751(d)(3) of the Act, and 19 CFR 351.222(i)(2)(i), the effective date of revocation is August 11, 2000. The Department will notify U.S. Customs and Border Protection to discontinue suspension of liquidation and collection of cash deposits on entries of the subject merchandise entered or withdrawn from warehouse, on or after August 11, 2000, the effective date of revocation of this antidumping duty order.

This notice also serves as the only reminder to parties subject to administrative protective order (“APO”) of their responsibility concerning the disposition of proprietary information disclosed under APO in accordance with 19 CFR 351.305 of the Department's regulations. Timely notification of return/destruction of APO materials or conversion to judicial protective order is hereby requested. Failure to comply with the regulations and the terms of an APO is a sanctionable violation.

This notice is in accordance with section 751(d)(2) and is published pursuant to section 777(i)(1) of the Act.

Dated: September 21, 2007.
Joseph A. Spetrini,
Deputy Assistant Secretary for Import Administration.

[FR Doc. E7-19325 Filed 9-28-07; 8:45 am]

BILLING CODE 3510-DS-S